FEDERAL COMMUNICATIONS COMMISSION

47 CFR Part 15

[ET Docket Nos. 03-104 and 04-37; Report No. 2955]

Petition for Reconsideration of Action in Rulemaking Proceeding

AGENCY: Federal Communications Commission.

ACTION: Petition for reconsideration.

SUMMARY: In this document, Petitions for Reconsideration (Petition) have been filed in the Commission's Rulemaking proceeding by AARL, The National Association for Amateur Radio requesting that the Commission reconsider and modify the Second Report and Order governing unlicensed Broadband over Power Line (BPL) rules.

DATES: Oppositions to the Petition must be filed on or before July 17, 2012. Replies to an opposition must be filed on or before July 27, 2012.

ADDRESSES: Federal Communications Commission, 445 12th Street SW., Washington, DC 20554.

FOR FURTHER INFORMATION CONTACT: Anh Wride, (202) 418-0577 or via email at Anh.Wride@fcc.gov.

SUPPLEMENTARY INFORMATION: This is a summary of Commission's document, Report No. 2955, released June 21, 2012. The full text of this document is available for viewing and copying in Room CY-B402, 445 12th Street SW., Washington, DC or may be purchased from the Commission's copy contractor, Best Copy and Printing, Inc. (BCPI) (1-800-378-3160). The Commission will not send a copy of this Notice pursuant to the Congressional Review Act, 5 U.S.C. 801(a)(1)(A), because this Notice does not have an impact on any rules of particular applicability.

Subject: Amendment of Part 15 Regarding New Requirements and Measurement Guidelines for Access Broadband over Power Line Systems and published pursuant to 47 CFR 1.429(e). See 1.4(b)(1) of the Commission's rules (47 CFR 1.4(b)(1)).

Number of Petitions Filed: 1.

Federal Communications Commission.
Marlene H. Dortch,
Secretary, Office of the Secretary, Office of Managing Director.

[FR Doc. 2012-16124 Filed 6-29-12; 8:45 am]

BILLING CODE 6712-01-P